DEPARTMENT OF TRANSPORTATION

Pipeline and Hazardous Materials Safety Administration

[Docket No. PHMSA-2019-0201]

Pipeline Safety: Request for Special Permit; Columbia Gulf Transmission, LLC

AGENCY: Pipeline and Hazardous Materials Safety Administration (PHMSA); DOT.

ACTION: Notice.

SUMMARY: PHMSA is publishing this notice to solicit public comments on a request for special permit received from the Columbia Gulf Transmission, LLC (CGT). The special permit request is seeking relief from compliance with certain requirements in the Federal pipeline safety regulations. At the conclusion of the 30-day comment period, PHMSA will review the comments received from this notice as part of its evaluation to grant or deny the special permit request.

DATES: Submit any comments regarding this special permit request by November 4, 2020.

ADDRESSES: Comments should reference the docket number for this specific special permit request and may be submitted in the following ways:

• E-Gov Website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two (2) copies. To receive confirmation that PHMSA has received your comments, please include a self-addressed stamped postcard. Internet users may submit comments at http://www.Regulations.gov.

Note: There is a privacy statement published on http://www.Regulations.gov. Comments, including any personal information provided, are posted without changes or edits to http://www.Regulations.gov.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 Code of Federal Regulations CFR 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to: Kay McIver, DOT, PHMSA-PHP-80, 1200 New Jersey Avenue SE, Washington, DC 20590-0001. Any commentary PHMSA receives that is not specifically designated as CBI will be placed in the public docket for this matter.

FOR FURTHER INFORMATION CONTACT:

General: Ms. Kay McIver by telephone at 202-366-0113, or by email at kay.mciver@dot.gov.

Technical: Mr. Steve Nanney by telephone at 713-272-2855, or by email at steve.nanney@dot.gov.

SUPPLEMENTARY INFORMATION:

PHMSA received a special permit request from CGT, a subsidiary of TC Energy, seeking a waiver from the requirements of 49 CFR 192.505(c): Strength test requirements for steel pipeline to operate at a hoop stress of 30 percent or more of SMYS, 49 CFR 192.611: Change in class location: Confirmation or revision of maximum allowable operating pressure, and 49 CFR 192.619: Maximum allowable operating pressure: Steel or plastic pipelines. The special permit request is for special permit segments that have either a Class 1 to 3 location change, a pressure test duration below eight (8) hours, or a pressure test times maximum allowable operating pressure (MAOP) safety factor that is below 1.25.

This special permit is being requested in lieu of pipe replacement, pressure reduction, or a new pressure test for 61 special permit segments totaling 114,124 feet (approximately 21.614 miles) in total length of pipeline. The pipeline special permit segments consist of the following:

• Lafayette Parish, Louisiana—8,307 feet of 24-inch diameter East Lateral (EL) 200 Pipeline and 4,187 feet of 30-inch diameter EL 400 Pipeline;

• Franklin Parish, Louisiana—1,312 feet of 30-inch diameter Mainline (ML) 100 Pipeline and 8,485 feet of 30-inch ML 200 Pipeline;

• Union County, Mississippi—4,173 feet of 30-inch diameter ML 100 Pipeline, 3,976 feet of 30-inch ML 200 Pipeline, and 3,897 feet of 36-inch diameter ML 300 Pipeline;

• Alcorn County, Mississippi—5,062 feet of 30-inch diameter ML 100 Pipeline, 5,331 feet of 30-inch ML 200 Pipeline, and 1,940 feet of 36-inch diameter ML 300 Pipeline;

• Macon County, Tennessee—3,896 feet of 30-inch diameter ML 100 Pipeline, 3,885 feet of 30-inch ML 200 Pipeline, and 3,949 feet of 36-inch diameter ML 300 Pipeline;

• Menifee County, Kentucky—62 feet of 30-inch diameter ML 100 Pipeline and 199 feet of 30-inch ML 200 Pipeline;

• Montgomery County, Kentucky—1,008 feet of 30-inch diameter ML 100 Pipeline and 803 feet of 30-inch ML 200 Pipeline;

• Carter County, Kentucky—9,798 feet of 30-inch diameter ML 100 Pipeline and 20,461 feet of 30-inch ML 200 Pipeline;

• Madison County, Kentucky—22,385 feet of 30-inch diameter ML 200 Pipeline and 823 feet of 30-inch ML 300 Pipeline; and

• Rowan County, Kentucky—185 feet of 30-inch diameter ML 200 Pipeline.

The proposed special permit will allow operation of the original Class 1 pipe in Class 3 locations. The CGT pipelines were constructed in the following time periods and operate at the MAOPs listed below:

• 24-inch diameter EL 200 Pipeline was constructed in 1954 and has a MAOP of 973 pound per square inch gauge (psig);

• 30-inch diameter ML 400 Pipeline was constructed in 1971 and has a MAOP of 1,007 psig;

• 30-inch diameter ML 100 Pipeline was constructed between 1953 to 1954 and has a MAOP of 935 psig;

• 30-inch diameter ML 200 Pipeline was constructed between 1958 to 1965 and has a MAOP of 1,007 psig; and

• 36-inch diameter ML 300 Pipeline was constructed between 1968 to 1971 and has a MAOP of 1,007 psig.

The special permit request, proposed special permit with conditions, and Draft Environmental Assessment (DEA) for the CGT pipelines are available for review and public comments in Docket No. PHMSA-2019-0201. We invite interested persons to review and submit comments on the special permit request and DEA in the docket. Please include any comments on potential safety and environmental impacts that may result if the special permit is granted. Comments may include relevant data.

Before issuing a decision on the special permit request, PHMSA will evaluate all comments received on or before the comments closing date. Comments received after the closing date will be evaluated, if it is possible to do so without incurring additional expense or delay. PHMSA will consider each relevant comment it receives in making its decision to grant or deny this special permit request.

Issued in Washington, DC under authority delegated in 49 CFR 1.97.
Alan K. Mayberry,
Associate Administrator for Pipeline Safety.

[FR Doc. 2020-21926 Filed 10-2-20; 8:45 am]

BILLING CODE 4910-60-P